DEPARTMENT OF DEFENSE

Department of the Air Force

Exchange of Air Force Real Property for Non-Air Force Real Property

AGENCY: Air Force Civil Engineer Center, United States Air Force, DoD.

ACTION: Notice of intent.

SUMMARY: The Air Force is publishing this Notice to identify Federal real property that it intends to exchange for property that is needed by the Air Force to limit encroachment and other constraints on military operations at Melrose Air Force Range (MAFR), NM.

FOR FURTHER INFORMATION CONTACT: Mr. Joe Weathersby, Air Force Civil Engineer Center (AFCEC/CIUB), 2261 Hughes Avenue, Suite 155, Joint Base San Antonio (JBSA) Lackland, TX 78236-9853; telephone (210) 395-9516.

SUPPLEMENTARY INFORMATION: MAFR is a long established training range, consisting of some 70,000 acres, 25 miles west of Cannon Air Force Base, New Mexico. Operations on Melrose Range also cover an area of 2,500 square miles of airspace. Melrose is used for training such as air to ground, small arms, and electronic combat.

Description of the Air Force Property: Approximately 1,240 acres of undeveloped rangeland located on the southern perimeter of MAFR in Township 1S, Ranges 29E and 30E, in Roosevelt County, New Mexico. This undeveloped land is adjacent to private ranchlands owned by Davis Mesa Ranch, LLC, Davis Arch Ranch, LLC, and Davis Spear Ranch, LLC. The ranchland properties represent ideal conditions for the commercial development of wind energy generation. For the exchange of 1,240 acres of Air Force real property the owner of these properties has agreed to convey 160 acres of ranchland on the eastern perimeter of the range utilizing 10 U.S.C. 2869 authority.

In conjunction with the exchange, the same landowner has agreed to convey a perpetual restrictive use easement on 29,319 acres to protect those acres adjoining MAFR from incompatible land uses. 10 U.S.C. 2869 authorizes the Air Force to convey real property at an installation in exchange for property interests to be acquired under the terms of an encroachment protection agreement executed in accordance with Title 10 U.S.C. 2684a. The Air Force executed an encroachment management agreement with The Conservation Fund on July 21, 2017.

The Air Force has notified the appropriate Congressional committees of the terms and conditions of the proposed exchange pursuant to 10 U.S.C. 2869(d)(2).

Authority: 10 U.S.C. 2869(d)(1) and 10 U.S.C. 2684a(d)(4)(B).

Dated: July 19, 2018.
Henry Williams,
Acting Air Force Federal Register Liaison Officer.

[FR Doc. 2018-15901 Filed 7-24-18; 8:45 am]

BILLING CODE P